DEPARTMENT OF AGRICULTURE

Submission for OMB Review; Comment Request

July 31, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by September 8, 2015 will be considered. Written comments should be addressed to: Desk Officer for Agriculture, Office of Information and Regulatory Affairs, Office of Management and Budget (OMB), New Executive Office Building, 725—17th Street NW., Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Community Forest and Open Space Conservation Program.

OMB Control Number: 0596-0227.

Summary of Collection: The Forest Service (FS) is authorized to implement the Community Forest and Open Space Program (CFP) under Section 8003 of the Food, Conservation, and Energy Act of 2008 (Pub. L. 110-234; 122 Stat. 2043), which amends the Cooperative Forestry Assistance Act of 1978 (16 U.S.C. 2103d). The purpose of the CFP is to achieve community benefits through grants to local governments, Indian Tribes, and nonprofit organizations to establish community forests by acquiring and protecting private forestlands.

Need and Use of the Information: The applicant will need to provide information as outlined in the rule and the request for proposal. Applicants representing local governments or non-profits will submit CFP applications to their State Foresters. Indian Tribes submit applications directly to the Forest Service. The State Forester or the equivalent Indian Tribe official, per section § 230.03 of the rule, will forward all applications to the FS. The FS would not be able to implement the program effectively or at all if the collection was conducted less frequently or not at all.

Description of Respondents: Non-profit Organizations; State, Local and Tribal Governments.

Number of Respondents: 75.

Frequency of Responses: Annually; Quarterly; Reporting and Record Keeping.

Total Burden Hours: 5,343.

Charlene Parker,
Departmental Information Collection Clearance Officer.

[FR Doc. 2015-19275 Filed 8-5-15; 8:45 am]

BILLING CODE 3411-15-P6